DEPARTMENT OF ENERGY

Federal Energy Regulatory Commission

[Project No. 10254-026]

Pelzer Hydro Company, LLC; Consolidated Hydro Southeast, LLC; Notice of Application Ready for Environmental Analysis and Soliciting Comments, Recommendations, Terms and Conditions, and Prescriptions

Take notice that the following hydroelectric application has been filed with the Commission and is available for public inspection.

a. Type of Application: New License.

b. Project No.: 10254-026.

c. Date filed: November 30, 2015.

d. Applicant: Pelzer Hydro Company, LLC (Pelzer Hydro), Consolidated Hydro Southeast, LLC (Consolidated Hydro).

e. Name of Project: Upper Pelzer Hydroelectric Project.

f. Location: The existing project is located on the Saluda River in the Town of Pelzer, in Anderson and Greenville Counties, South Carolina. The project does not affect federal land.

g. Filed Pursuant to: Federal Power Act 16 U.S.C. 791(a)-825(r).

h. Applicant Contact: Beth E. Harris, P.E., Regional Operations Manager, Enel Green Power North America, Inc., 11 Anderson Street, Piedmont, SC 29673; Telephone—(864) 846-0042; Email—beth.harris@enel.com, OR Kevin Webb, Hydro Licensing Manager, Enel Green Power North America, Inc., One Tech Drive, Suite 220, Andover, MA 01810; Telephone—(978) 681-1900; Email—kevin.webb@enel.com.

i. FERC Contact: Navreet Deo, (202) 502-6304, or navreet.deo@ferc.gov.

j. Deadline for filing comments, recommendations, terms and conditions, and prescriptions: 60 days from the issuance date of this notice; reply comments are due 105 days from the issuance date of this notice.

The Commission strongly encourages electronic filing. Please file comments, recommendations, terms and conditions, and prescriptions using the Commission's eFiling system at http://www.ferc.gov/docs-filing/efiling.asp. Commenters can submit brief comments up to 6,000 characters, without prior registration, using the eComment system at http://www.ferc.gov/docs-filing/ecomment.asp. You must include your name and contact information at the end of your comments. For assistance, please contact FERC Online Support at FERCOnlineSupport@ferc.gov, (866) 208-3676 (toll free), or (202) 502-8659 (TTY). In lieu of electronic filing, please send a paper copy to: Secretary, Federal Energy Regulatory Commission, 888 First Street NE., Washington, DC 20426. The first page of any filing should include docket number P-10254-026.

The Commission's Rules of Practice require all intervenors filing documents with the Commission to serve a copy of that document on each person on the official service list for the project. Further, if an intervenor files comments or documents with the Commission relating to the merits of an issue that may affect the responsibilities of a particular resource agency, they must also serve a copy of the document on that resource agency.

k. This application has been accepted and is now ready for environmental analysis.

l. The Upper Pelzer Project consists of: (1) A 505-foot-long by 29.7-foot-high granite masonry dam, consisting of (i) a 150-foot-long non-overflow section, (ii) a 280-foot-long ungated overflow spillway topped with 4-foot-high wooden flashboards, and (iii) a 75-foot-long gated intake section containing six gates; (2) a 25-acre impoundment at a normal pool elevation of 718.7 feet mean sea level, as measured at the top of the flashboards; (3) a 260-foot-long by 52-foot-wide forebay canal channeling flow from 6 canal gates to the project's 2 powerhouses; (4) a 43-foot-long by 24-foot-wide upstream concrete powerhouse, protected by a 65-foot-long trashrack structure with 5.5-inch clear bar spacing for 38 feet of length, and 2-inch clear bar spacing for 27 feet of length, containing two vertical Francis turbine generating units that total 1,500 kW (kW); (5) a 70-foot-long by 55-foot-wide downstream powerhouse, protected by a trashrack structure with 2-inch clear bar spacing, containing one vertical Francis turbine generating unit that totals 450 kW; (6) a 95-foot-long by 74-foot-wide tailrace extending from the upstream powerhouse, and a 132-foot-long by 24-foot-wide tailrace extending from the downstream powerhouse; (7) a 65-foot-long, 3,300-volt transmission line, connecting the upper and lower powerhouses with the grid via a 7.2/12.47 kilovolt transformer; and (8) appurtenant facilities.

Pelzer Hydro and Consolidated Hydro (co-licensees) operate the project in a run- of-river mode using automatic pond level control, with no useable storage or flood control capacity. There are no minimum flow requirements downstream of the dam. The project operates under an estimated average head of 25 feet, including the 4-foot-high spillway flashboards. The impoundment water surface elevation is maintained at 718.7 feet. River flows between 159 cubic feet per second (cfs) and 1,200 cfs are used for power generation, while flows in excess of 1,200 cfs are passed over the spillway. A single manually operated, low level outlet gate located in the unregulated spillway portion of the dam is used to drain the impoundment during maintenance activities. The total installed capacity of the project is 1,950 kW between the three generating units. The project generates approximately 6,223 megawatt-hours annually, which are sold to a local utility.

The co-licensees propose to continue to operate and maintain the Upper Pelzer Project as is required in the existing license, and to develop canoe portage facilities. The co-licensees also propose to release a continuous minimum flow of 15 cfs or inflow, whichever is less, from a new weir on the spillway crest in order to maintain aquatic habitat and water quality conditions in the 115-foot-long reach between the dam and the upstream powerhouse tailrace.

m. A copy of the application is available for review at the Commission in the Public Reference Room, or may be viewed on the Commission's Web site at http://www.ferc.gov using the “eLibrary” link. Enter the docket number excluding the last three digits in the docket number field to access the document. For assistance, contact FERC Online Support. A copy is also available for inspection and reproduction at the address in item h above.

All filings must: (1) Bear in all capital letters the title COMMENTS, REPLY COMMENTS, RECOMMENDATIONS, TERMS AND CONDITIONS, or PRESCRIPTIONS; (2) set forth in the heading the name of the applicant and the project number of the application to which the filing responds; (3) furnish the name, address, and telephone number of the person submitting the filing; and (4) otherwise comply with the requirements of 18 CFR 385.2001 through 385.2005. All comments, recommendations, terms and conditions or prescriptions must set forth their evidentiary basis and otherwise comply with the requirements of 18 CFR 4.34(b). Agencies may obtain copies of the application directly from the applicant. Each filing must be accompanied by proof of service on all persons listed on the service list prepared by the Commission in this proceeding, in accordance with 18 CFR 4.34(b) and 385.2010.

You may also register online at http://www.ferc.gov/docs-filing/esubscription.asp to be notified via email of new filings and issuances related to this or other pending projects. For assistance, contact FERC Online Support.

n. A license applicant must file no later than 60 days following the date of issuance of this notice: (1) A copy of the water quality certification; (2) a copy of the request for certification, including proof of the date on which the certifying agency received the request; or (3) evidence of waiver of water quality certification.

Dated: November 16, 2017.
Kimberly D. Bose,
Secretary.

[FR Doc. 2017-25317 Filed 11-21-17; 8:45 am]

BILLING CODE 6717-01-P